ENVIRONMENTAL PROTECTION AGENCY

[FRL-7154-1]

Agency Information Collection Activities: Proposed Collection; Comment Request; Ambient Air Quality Surveillance

AGENCY: Environmental Protection Agency (EPA).

ACTION: Notice.

SUMMARY: In compliance with the Paperwork Reduction Act (44 U.S.C. 3501 et seq.), this notice announces that EPA is planning to submit the following renewal Information Collection Request (ICR) to the Office of Management and Budget (OMB): Ambient Air Quality Surveillance, OMB Number (2060-0084), EPA ICR # 0940.16 expires September 30, 2002. Before submitting the ICR to OMB for review and approval, EPA is soliciting comments on specific aspects of the proposed information collections as described below.

DATES: Comments must be submitted on or before May 6, 2002.

ADDRESSES: Office of Air Quality Planning and Standards; Emissions, Monitoring, and Analysis Division (C339-02), U.S. Environmental Protection Agency, Research Triangle Park, NC 27711.

FOR FURTHER INFORMATION CONTACT: David Lutz, Emissions, Monitoring, and Analysis Division (C339-02), U.S. Environmental Protection Agency, Research Triangle Park, NC 27711, telephone (919) 541-5476, FAX (919) 541-1903.

SUPPLEMENTARY INFORMATION: Affected entities: Entities potentially affected by this action are those State and local air pollution control agencies which collect and report ambient air quality data for the criteria pollutants to EPA.

Title: Ambient Air Quality Surveillance, OMB Number (2060-0084), EPA ICR # 0940.16 expires September 30, 2002.

Abstract: The general authority for the collection of ambient air quality data is contained in sections 110 and 319 of the Clean Air Act (42 U.S.C. 1857). Section 110 makes it clear that State generated air quality data are central to the air quality management process through a system of State implementation plans (SIP's). Section 319 was added via the 1977 Amendments to the Act and spells out the key elements of an acceptable monitoring and reporting scheme. To a large extent, the requirements of section 319 had already been anticipated in the detailed strategy document prepared by EPA's Standing Air Monitoring Work Group (SAMWG). The regulatory provisions to implement these recommendations were developed through close consultation with the State and local agency representatives serving on SAMWG and through reviews by ad-hoc panels from the State and Territorial Air Pollution Program Administrators and the Association of Local Air Pollution Control Officials. These modifications to the previous regulations were issued as final rules on May 10, 1979 (44 FR 27558) and are contained in 40 CFR part 58.

Major amendments which affect the hourly burdens, were made in 1983 for lead, 1987 for PM10, 1993 for the enhanced monitoring for ozone, and 1997 for PM2.5. The specific required activities for the burden include establishing and operating ambient air monitors and samplers, conducting sample analyses for all pollutants for which a national ambient air quality standard (NAAQS) has been established, preparing, editing, and quality assuring the data, and submitting the ambient air quality data and quality assurance data to EPA.

Some of the major uses of the data are for judging attainment of the NAAQS, evaluating progress in achieving/maintaining the NAAQS or State/local standards, developing or revising SIP's, evaluating control strategies, developing or revising national control policies, providing data for model development and validation, supporting enforcement actions, documenting episodes and initiating episode controls, documenting population exposure, and providing information to the public and other interested parties. An agency may not conduct or sponsor, and a person is not required to respond to, a collection of information unless it displays a currently valid OMB control number. The OMB control numbers for EPA's regulations are listed in 40 CFR part 9 and 48 CFR chapter 15.

In the previous ICR approval, OMB requested that EPA update the 1993 “Guidance for Estimating Ambient Air Monitoring Costs for Criteria Pollutants and Selected Air Toxic Pollutants.” The EPA agrees and is proceeding with this update.

The EPA would like to solicit comments to:

(i) Evaluate whether the proposed collection of information is necessary for the proper performance of the functions of the agency, including whether the information will have practical utility;

(ii) evaluate the accuracy of the agency's estimate of the burden of the proposed collection of information, including the validity of the methodology and assumptions used;

(iii) enhance the quality, utility, and clarity of the information collected; and

(iv) minimize the burden of the collection of information on those who are to respond, including through the use of appropriate automated electronic, mechanical, or other technological collection techniques or other forms of information technology, e.g., permitting electronic submission of responses.

Burden Statement: It is estimated that there are presently 136 State and local agencies which are currently required to submit the ambient air quality data and quality assurance data to EPA on a quarterly basis. The current annual burden for the collection and reporting of ambient air quality data has been estimated on the existing ICR to be (2,404,606) hours, which would average out to be approximately (17,681) hours per respondent. As a part of this ICR renewal, an evaluation will be made of the labor burden associated with this activity.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements, train personnel to be able to respond to a collection of information; search data sources; complete and review the collection of information; and transmit or otherwise disclose the information.

Dated: February 22, 2002.
J. David Mobley,
Acting Director, Emissions, Monitoring, and Analysis Division.

[FR Doc. 02-5453 Filed 3-6-02; 8:45 am]

BILLING CODE 6560-50-P